Title 3—

The President

Executive Order 13257 of February 13, 2002

President's Interagency Task Force To Monitor and Combat Trafficking in Persons

By the authority vested in me as President by the Constitution and the laws of the United States of America, including the Trafficking Victims Protection Act of 2000, (22 U.S.C. 7103) (the “Act”), and in order to combat trafficking in persons, a contemporary manifestation of slavery whose victims are predominantly women and children, to ensure just and effective punishment of traffickers, and to protect their victims, it is hereby ordered as follows:

Section 1. (a) The President's Interagency Task Force to Monitor and Combat Trafficking in Persons is hereby established.

(b) The Task Force shall consist of:

(i) the Secretary of State;

(ii) the Attorney General;

(iii) the Secretary of Labor;

(iv) the Secretary of Health and Human Services;

(v) the Director of Central Intelligence;

(vi) the Director of the Office of Management and Budget;

(vii) the Administrator of the United States Agency for International Development; and

(viii) any additional officers or employees of the United States as may be designated by the President.

(c) The Task Force shall be chaired by the Secretary of State.

Sec. 2. Activities. The Task Force shall, consistent with applicable law and the constitutional authorities and duties of the President, carry out the following activities:

(a) coordinate the implementation of the Act;

(b) measure and evaluate progress of the United States and other countries in the areas of trafficking in persons prevention, protection, and assistance to victims of trafficking in persons, and prosecutions and other enforcement efforts against traffickers, including the role of public corruption in facilitating trafficking in persons;

(c) assist the Secretary of State in the preparation of the annual reports described in section 110 of the Act;

(d) expand interagency procedures to collect and organize data, including significant research and resource information on domestic and international trafficking in persons, while ensuring that any data collection procedures involved, respect the confidentiality of victims of trafficking in persons;

(e) engage in efforts to facilitate cooperation among countries of origin, transit, and destination, and such efforts shall aim to strengthen local and regional capacities to prevent trafficking in persons, prosecute traffickers and assist trafficking victims; shall include initiatives to enhance cooperative efforts between destination countries, transit countries, and countries of origin; and shall assist in the appropriate reintegration of stateless victims of trafficking in persons;

(f) examine the role of the international “sex tourism” industry in the trafficking of persons and in the sexual exploitation of women and children around the world;

(g) engage in consultation and advocacy with governmental and nongovernmental organizations, among other entities, to advance the purposes of the Act; and

(h) address such other matters related to the purposes of the Act as the President may determine.

Sec. 3. Administration. (a) The Department of State shall provide funding and administrative support for the Task Force, except as otherwise provided by the Act.

(b) At the call of the Chair, the Task Force shall meet as necessary to accomplish its mission.

(c) Task Force members may designate representatives from their respective agencies to represent them at Task Force meetings.

(d) Whenever the work of the Task Force involves a matter committed by law or Presidential directive to the consideration of the National Security Council, or by Executive Order 13228 of October 8, 2001, to the consideration of the Homeland Security Council, that work shall be undertaken, and any communication by the Secretary of State to the President shall be undertaken, in a manner consistent with such law, Presidential directive, or Executive Order.

(e) The Task Force shall have no directive authority or other substantial independent authority.

(f) As necessary and appropriate, the Task Force shall report to the President, through the Secretary of State, the following:

(i) progress on the implementation of the Act; and

(ii) recommendations for United States policy to monitor and eliminate trafficking in persons and to protect the victims of trafficking in persons.

Sec. 4. Judicial Review. This order does not create any rights or benefits, enforceable at law or equity, against the United States, its departments, its agencies, or other entities, its officers or employees, or any other person.

B

THE WHITE HOUSE,

February 13, 2002.

[FR Doc. 02-4071

Filed 2-15-02; 8:45 am]

Billing code 3195-01-P